DEPARTMENT OF ENERGY

Federal Energy Regulatory Commission

[Docket No. RP04-358-000]

Transwestern Pipeline Company; Notice of Tariff Filing

July 8, 2004.

Take notice that on June 30, 2004, Transwestern Pipeline Company (Transwestern) tendered for filing as part of its FERC Gas Tariff, Second Revised Volume No. 1, the following tariff sheets to become effective August 1, 2004:

One Hundred Twenty-Eighth Revised Sheet No. 5

Thirty-Third Revised Sheet No. 5A

Twenty-Fifth Revised Sheet No. 5A.02

Twenty-Fifth Revised Sheet No. 5A.03

Thirtieth Revised Sheet No. 5B

Transwestern states that it is filing the referenced tariff sheets pursuant to the Gas Research Institute's (GRI) Settlement Agreement dated March 10, 1998, approved by the Commission's Order issued April 29, 1998, in Docket No. RP97-149-003 and the 2002-2006 Five-Year Plan as approved by the Commission Order issued September 19, 2001, in Docket No. RP01-434. Transwestern also states that it received a letter dated May 25, 2004, from GRI advising Transwestern to discontinue collecting the GRI surcharges effective August 1, 2004.

Any person desiring to be heard or to protest said filing should file a motion to intervene or a protest with the Federal Energy Regulatory Commission, 888 First Street, NE., Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Magalie R. Salas,
Secretary.

[FR Doc. E4-1545 Filed 7-13-04; 8:45 am]

BILLING CODE 6717-01-P